DEPARTMENT OF HEALTH AND HUMAN SERVICES

National Institutes of Health

Submission for OMB Review; Comment Request; HIV Vaccine Awareness Study-Americans' Attitudes

SUMMARY: Under the provisions of Section 3507(a)(1)(D) of the Paperwork Reduction Act of 1995, the National Institutes of Allergy and Infectious Diseases (NIAID), the National Institutes of Health (NIH) has submitted to the Office of Management and Budget (OMB) a request for review and approval of the information collection listed below. This proposed information collection was previously published in the Federal Register on November 28, 2001, pages 59438-59439 and allowed 60-days for public comment. No comments were received. The purpose of this notice is to allow an additional 30 days for public comment. The National Institutes of Health may not conduct or sponsor, and the respondent is not required to, an information collection that has been extended, revised, or implemented on or after October 1, 1995, unless it displays a currently valid OMB control number.

Proposed Collection: Title: HIV Vaccine Awareness Study-Americans' Attitudes. Type of Information Collection Request: New. Need and Use of Information Collection: NIH/NIAID/DAIDS is in the process of planning a campaign to inform Americans about HIV preventive vaccine research. As part of planning, it is necessary to establish a baseline of Americans' levels of knowledge and attitudes with respect to HIV preventive vaccine research; to determine what information is required by communities to address the mistrust, myths, and misinformation about HIV vaccine research; and to identify how and what information should be provided to communities to promote more positive attitudes toward HIV vaccine research. Findings will help inform initial campaign decisions and serve to evaluate the effectiveness of the campaign's efforts. Frequency of Response: Two times. Affected Public: Individuals or households. Type of Respondents: Random samples of adults, including those considered at-risk for HIV and members of their social networks. The annual reporting burden is as follows:

Type of respondents | Estimated number of respondents | Estimated number of responses per respondent | Average burden hours per response | Estimated total annual burden hours requested
General Population Adults | 4,000 | 1 | .25 | 1,000
HIV-Affected Adults | 3,000 | 1 | .25 | 750
Total | 7,000 |  | .25 | 1,750

The annualized cost to respondents is estimated at $17,500. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Robert J. Gulakowski, Health Sciences Communications Specialist, DAIDS, NIAID, NIH, 6700-B Rockledge Drive, MSC 7620, Room 4144, Bethesda, MD 20892-7620, or call non-toll free (301) 496-0545, or E-mail your request, including your address to rg106x@nih.gov.

Comments Due Date: Comments regarding this information collection are best assured of having their full effect if received within 30-days of the date of this publication.

Dated: July 31, 2002.
Brenda J. Velez,
Chief, CMB, NIAID and NIAID Project Clearance Liaison.

[FR Doc. 02-19868 Filed 8-6-02; 8:45 am]

BILLING CODE 4140-01-M